DEPARTMENT OF DEFENSE

Office of the Secretary

32 CFR Part 217

[Docket ID: DOD-2020-OS-0059]

RIN 0790-AL02

Service Academies

AGENCY: Office of the Under Secretary of Defense for Personnel and Readiness, Department of Defense (DoD).

ACTION: Final rule.

SUMMARY: This regulatory action removes this part from the Code of Federal Regulations (CFR), as information contained within this rule is an overview of policy and statute that provides guidance and direction to members of the DoD and not members of the public. Therefore, this rule can be removed from the CFR.

DATES: This rule is effective on September 10, 2020.

FOR FURTHER INFORMATION CONTACT: Lt Col David Nuckles, (703) 695-5529.

SUPPLEMENTARY INFORMATION: This rule was added to the CFR on December 31, 2015 (80 FR 81760-81767). This rule is redundant in that it established policy, assigned responsibilities, and prescribed procedures for members of the DoD on operation and oversight of the Military Service Academies, and does not regulate the public. Internal Departmental policies are current and reflective of these and other requirements in statute, and public notification is not required. Information in 32 CFR part 217 is redundant to information publically available in 10 U.S.C. chapters 33, 47, 61, 403, 603, 903; 10 U.S.C. 702 and 2005; 37 U.S.C. 303a; and DoD Instruction 1322.22, “Service Academies.”

It has been determined that publication of this CFR part removal for public comment is impracticable, unnecessary, and contrary to public interest since it is based on removing DoD internal policies and procedures that are publicly available on a Departmental website. A copy of the current DoD Instruction 1322.22, most recently updated on September 24, 2015, may be obtained at the following web address: https://www.esd.whs.mil/Portals/54/Documents/DD/issuances/dodi/132222p.pdf.

This rule is not significant under Executive Order (E.O.) 12866, “Regulatory Planning and Review.” Therefore, the requirements of E.O. 13771, “Reducing Regulation and Controlling Regulatory Costs,” do not apply.

This removal supports a recommendation of the DoD Regulatory Reform Task Force.

List of Subjects in 32 CFR Part 217

Colleges and universities, Education.

PART 217—[REMOVED]

Accordingly, by the authority of 5 U.S.C. 301, 32 CFR part 217 is removed.

Dated: September 4, 2020.
Aaron T. Siegel,
Alternate OSD Federal Register Liaison Officer, Department of Defense.

[FR Doc. 2020-19992 Filed 9-9-20; 8:45 am]

BILLING CODE 5001-06-P